SECURITIES AND EXCHANGE COMMISSION

[File No. 500-1]In the Matter of:

Kafus Industries, Ltd., Kevco, Inc., and Kings Road Entertainment, Inc.; Order of Suspension of Trading

June 19, 2008.

It appears to the Securities and Exchange Commission that there is a lack of current and accurate information concerning the securities of Kafus Industries, Ltd. because it has not filed any periodic reports since the period ended December 31, 1999.

It appears to the Securities and Exchange Commission that there is a lack of current and accurate information concerning the securities of Kevco, Inc. because it has not filed any periodic reports since the period ended September 30, 2000.

It appears to the Securities and Exchange Commission that there is a lack of current and accurate information concerning the securities of Kings Road Entertainment, Inc. because it has not filed any periodic reports since the period ended April 30, 2005.

The Commission is of the opinion that the public interest and the protection of investors require a suspension of trading in the securities of the above-listed companies.

Therefore, it is ordered, pursuant to Section 12(k) of the Securities Exchange Act of 1934, that trading in the above-listed companies is suspended for the period from 9:30 a.m. EDT on June 19, 2008, through 11:59 p.m. EDT on July 2, 2008.

By the Commission.
Jill M. Peterson,
Assistant Secretary.

[FR Doc. 08-1376 Filed 6-19-08; 9:53 am]

BILLING CODE 8010-01-P